OFFICE OF PERSONNEL MANAGEMENT

Notice of Migration to a New Financial System

AGENCY: Office of Personnel Management.

ACTION: Notice of migration to a new financial system.

SUMMARY: OPM's Office of Chief Financial Officer (OCFO), in coordination with the Department of Transportation (DOT) and its Enterprise Services Center (ESC), is leading an initiative that will result in the migration to a new financial management platform. As part, OPM will transition to processing invoice payments through a secure, internet-based portal known as the Delphi eInvoicing system. This represents an administrative change to the current way that OPM's vendors submit invoices and receive payment. This notice is not a solicitation for public comment, nor does it contain any rulemaking. Its intent is to provide OPM vendors with advance notice of the forthcoming migration so that they may prepare accordingly.

DATES: The migration identified in this notice is expected to be complete on or about May 12, 2021. On or after this date, all OPM vendors will be required to submit invoices within the Delphi eInvoicing system to receive payment. Non-conformant invoices submitted outside of the Delphi eInvoicing system may be rejected. OPM vendors seeking additional information should reach out to the point(s) of contact listed below.

FOR FURTHER INFORMATION CONTACT: Mark Brody, Lead Accountant, OPM, OCFO, 202-606-0707.

Authority: OMB Memorandum M-15-19: Improving Government Efficiency and Saving Taxpayer Dollars Through Electronic Invoicing.

Office of Personnel Management.
Alexys Stanley,
Regulatory Affairs Analyst.

[FR Doc. 2021-06878 Filed 4-6-21; 8:45 am]

BILLING CODE 6325-23-P